DEPARTMENT OF THE INTERIOR

National Park Service

[NPS-WASO-NRNHL-DTS#-38519; PPWOCRADI0, PCU00RP14.R50000]

National Register of Historic Places; Notification of Pending Nominations and Related Actions

AGENCY: National Park Service, Interior.

ACTION: Notice.

SUMMARY: The National Park Service is soliciting electronic comments on the significance of properties nominated before August 3, 2024, for listing or related actions in the National Register of Historic Places.

DATES: Comments should be submitted electronically by August 27, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before August 3, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

GEORGIA

Bryan County

Community House, 10512 Ford Avenue, Richmond Hill, SG100010792

MAINE

Franklin County

Rangeley Lakes Country Club Historic District, 43 and 50-56 Country Club Road, Rangeley, SG100010815

NEW JERSEY

Mercer County

Drake Farmstead-Brookdale Farm, 31 Titus Mill Road, Pennington Borough, SG100010797

Union County

Plainfield Masonic Temple, 105 East 7th Street, Plainfield, SG100010812

OHIO

Cuyahoga County

Erie Street Cemetery Historic District, 2301 East 9th Street, Cleveland, SG100010810

OREGON

Umatilla County

J.L. Elam Bank, 601 N. Main Street, Milton-Freewater, SG100010807

TEXAS

Hays County

San Marcos Colored School Home Economics Building, (San Marcos MRA), 801 W. Martin Luther King Drive, San Marcos, MP100010800

Rusk County

Concord School, (Rosenwald School Building Program in Texas MPS), 1944 7 FM 95 S, Mount Enterprise vicinity, MP100010801

VERMONT

Orange County

Braintree Hill Meetinghouse and Cemetery, (Religious Buildings, Sites and Structures in Vermont MPS), 2756 Braintree Hill Road, Braintree, MP100010811

Windsor County

Fletcher Memorial Library

88 Main Street, Ludlow Village, SG100010791

VIRGINIA

Danville INDEPENDENT CITY

Winslow Hospital, 709 Betts Street, Danville, SG100010813

Harrisonburg INDEPENDENT CITY

Ida Mae Francis Tourist Home, 252 North Mason Street, Harrisonburg, SG100010805

WISCONSIN

Eau Claire County

Chicago, St. Paul, Minneapolis, and Omaha Railway Bridge, Over the Chippewa River, south of the Dells Dam, Eau Claire, SG100010789

A request for removal has been made for the following resource(s):

MAINE

Androscoggin County

Webster Rubber Company Plant, Greene St., Sabattus, OT89001701

Kennebec County

Richards, Laura, House, 3 Dennis St., Gardiner, OT79000151

Additional documentation has been received for the following resource(s):

CALIFORNIA

Santa Barbara County

Royal Theater (Additional Documentation), (Asian Americans and Pacific Islanders in California, 1850-1970 MPS), 848 Guadalupe St., Guadalupe, AD100007474

GEORGIA

Richmond County

Laney-Walker North Historic District (Additional Documentation), Bounded by D'Antignac, 7th, Twiggs, Phillips, and Harrison Sts., Walton Way and Laney-Walker Blvd., Augusta, AD85001976

NEW JERSEY

Cape May County

Cape May Historic District (Additional Documentation), Cape May, Cape May, AD70000383

NORTH CAROLINA

Guilford County

Jamestown Historic District (Additional Documentation), Both sides of U.S. 29A, Jamestown, AD73001345

Nomination(s) submitted by Federal Preservation Officers:

The State Historic Preservation Officer reviewed the following nomination(s) and responded to the Federal Preservation Officer within 45 days of receipt of the nomination(s) and supports listing the properties in the National Register of Historic Places.

DISTRICT OF COLUMBIA

District of Columbia

Hubert H. Humphrey Building, 200 Independence Avenue SW, Washington, SG100010786

GEORGIA

Cobb County

Power-Hyde Farm Historic District, 575 Hyde Road, Marietta, SG100010808

Authority: Section 60.13 of 36 CFR part 60.

Sherry A. Frear,
Chief, National Register of Historic Places/National Historic Landmarks Program.

[FR Doc. 2024-17898 Filed 8-9-24; 8:45 am]

BILLING CODE 4312-52-P